NATIONAL SCIENCE FOUNDATION

Alan T. Waterman Award Committee; Notice of Meeting

In accordance with the Federal Advisory Committee Act (Pub. L. 92-463, as amended), the National Science Foundation (NSF) announces the following meeting:

NAME AND COMMITTEE CODE: Alan T. Waterman Award Committee (#1172).

DATE AND TIME: January 30, 2023; 12:30 p.m.-5:30 p.m. (Eastern).

PLACE: NSF, 2415 Eisenhower Avenue, Alexandria, VA 22314 (Virtual).

TYPE OF MEETING: Closed.

CONTACT PERSONS: Gayle Pugh Lev, OD/OIA, National Science Foundation, 2415 Eisenhower Avenue, Alexandria, VA 22314; Telephone: 703-292-7589.

PURPOSE OF MEETING: Virtual meeting to provide advice and recommendations in the selection of the Alan T. Waterman Award recipient.

AGENDA: To review and evaluate nominations as part of the selection process for awards.

REASON FOR CLOSING: The nominations being reviewed include information of a personal nature where disclosure would constitute unwarranted invasions of personal privacy. These matters are exempt under 5 U.S.C. 552b(c), (6) of the Government in the Sunshine Act.

Dated: November 10, 2022.
Crystal Robinson,
Committee Management Officer.

[FR Doc. 2022-24906 Filed 11-15-22; 8:45 am]

BILLING CODE 7555-01-P